DEPARTMENT OF LABOR

Employment and Training Administration

[TA-W-52,338]

Takata Petri, Inc., Plants 2 & 3, Port Huron, MI; Notice of Termination of Investigation

Pursuant to Section 221 of the Trade Act of 1974, an investigation was initiated on July 17, 2003, in response to a worker petition which was filed by a company official on behalf of workers at Takata Petri, Inc., Plants 2 & 3, Port Huron, Michigan.

The petitioner has requested that the petition be withdrawn. Consequently, further investigation in this case would serve no purpose, and the investigation has been terminated.

Signed in Washington, DC, this 4th day of August 2003.
Linda G. Poole,
Certifying Officer, Division of Trade Adjustment Assistance.

[FR Doc. 03-20723 Filed 8-13-03; 8:45 am]

BILLING CODE 4510-30-P